DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Cost Earnings Survey of Mariana Archipelago Small Boat Fleet.

OMB Control Number: 0648-xxxx.

Form Number(s): None.

Type of Request: Regular (request for a new information collection).

Number of Respondents: 280.

Average Hours per Response: 45 minutes.

Burden Hours: 210.

Needs and Uses: This request is for a new information collection.

The National Marine Fisheries Service (NMFS) proposes to collect information about fishing expenses and catch distribution (the share of fish that is sold, retained for home consumption, directed to customary exchange, etc.) for the Mariana Archipelago small boat-based reef fish, bottomfish, and pelagics fisheries with which to conduct economic analyses that will improve fishery management in those fisheries; satisfy NMFS' legal mandates under Executive Order 12866, the Magnuson-Stevens Fishery Conservation and Management Act (U.S.C. 1801 et seq.), the Regulatory Flexibility Act, the Endangered Species Act, and the National Environmental Policy Act; and quantify achievement of the performances measures in the NMFS Strategic Operating Plans. Respondents will include small boat fishers in Mariana Archipelago (Guam and the Commonwealth of the Northern Mariana Islands) and their participation in the economic data collection will be voluntary. These data will be used to assess how fishermen will be impacted by and respond to regulations likely to be considered by fishery managers.

Affected Public: Business or other for-profit organizations; individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sarah Brabson,
NOAA PRA Clearance Officer.

[FR Doc. 2017-09567 Filed 5-10-17; 8:45 am]

BILLING CODE 3510-22-P